DEPARTMENT OF COMMERCE

International Trade Administration

[A-583-008, A-583-814]

Certain Circular Welded Carbon Steel Pipes and Tubes From Taiwan and Circular Welded Non-Alloy Steel Pipe From Taiwan: Negative Final Determinations of Circumvention of the Antidumping Duty Orders

AGENCY: Enforcement and Compliance, International Trade Administration, Department of Commerce.

SUMMARY: The U.S. Department of Commerce (Commerce) determines that certain circular welded carbon steel pipes and tubes (pipe and tube) and circular welded non-alloy steel pipe (CWP) imported into the United States during the period of inquiry, January 1, 2017, through December 31, 2021, were not completed in the Socialist Republic of Vietnam (Vietnam) using hot-rolled steel (HRS) manufactured in Taiwan, and, therefore, no such imports are circumventing the antidumping duty (AD) orders on pipe and tube and CWP from Taiwan.

DATES: Applicable August 9, 2023.

FOR FURTHER INFORMATION CONTACT: Nicolas Mayora (pipe and tube) or Preston Cox and Scarlet Jaldin (CWP), AD/CVD Operations, Offices V and VI, Enforcement and Compliance, International Trade Administration, U.S. Department of Commerce, 1401 Constitution Avenue NW, Washington, DC 20230; telephone: (202) 482-3053, (202) 482-5041, and (202) 482-4275, respectively.

SUPPLEMENTARY INFORMATION:

Background

On April 12, 2023, Commerce published in the Federal Register its preliminary determinations ¹ that imports of pipe and tube and CWP were not completed in Vietnam using HRS manufactured in Taiwan, and, therefore, are not circumventing the AD orders on pipe and tube and CWP from Taiwan.² Pursuant to section 781(e) of the Tariff Act of 1930, as amended (the Act), on April 7, 2023, we notified the U.S. International Trade Commission (ITC) of our negative preliminary determinations of circumvention of the Orders.³ The ITC did not request consultations with Commerce.

¹ See Certain Circular Welded Carbon Steel Pipes and Tubes from Taiwan and Circular Welded Non-Alloy Steel Pipe from Taiwan: Negative Preliminary Determinations of Circumvention of the Antidumping Duty Orders, 88 FR 22007 (April 12, 2023) (Preliminary Determinations), and accompanying Preliminary Decision Memorandum.

² See Certain Circular Welded Carbon Steel Pipes and Tubes from Taiwan: Antidumping Duty Order, 49 FR 19369 (May 7, 1984); see also Notice of Antidumping Duty Order: Circular Welded Non-Alloy Steel Pipe from Taiwan, 57 FR 49454 (November 2, 1992) (collectively, Orders).

³ See Commerce's Letter, “Notification of Affirmative and Negative Preliminary Determinations of Circumvention of the Antidumping and Countervailing Duty Orders,” dated April 7, 2023.

Between May 3 and 10, 2023, we conducted verification in Vietnam of the information reported by SeAH Steel Vina Corporation (SeAH VINA) and Vietnam Haiphong Hongyuan Machinery Manufactory Co., Ltd. (Vietnam Haiphong).⁴ In May and June 2023, we received comments in response to the Preliminary Determinations.⁵ On May 15, 2023, Commerce extended the deadline for the final determinations of these circumvention inquiries to August 4, 2023.⁶

⁴ See Memoranda, “Verification of Vietnam Haiphong Hongyuan Machinery Manufactory Co., Ltd.,” dated June 2, 2023; and “Verification of SeAH Steel VINA Corporation,” dated June 5, 2023.

⁵ See Vina One Steel Manufacturing Corporation (Vina One) and Hoa Sen Group (HSG)'s Letter, “Letter in Lieu of Set 1 Case Brief,” dated May 4, 2023; see also Vietnam Haiphong's Letter, “Vietnam Haiphong Hongyuan Machinery Co., Ltd.'s Case Brief (First Tranche),” dated May 4, 2023; Domestic Interested Parties' Letter, “Letter in lieu of First Case Brief,” dated May 4, 2023; SeAH VINA's Letter, “Letter in Lieu of First Case Brief,” dated May 11, 2023; Vietnam Haiphong's Letter, “Vietnam Haiphong Hongyuan Machinery Co., Ltd.'s Rebuttal Brief (First Tranche),” dated May 11, 2023; Domestic Interested Parties' Letter, “Domestic Interested Parties' Rebuttal Brief,” dated May 11, 2023; Vina One, HSG, and Hoa Phat Steel Pipe Co Ltd.'s (Hoa Phat) Letter, “Letter in Lieu of Set Two Case Brief,” dated June 1, 2023; Vina One, HSG, and Hoa Phat's Letter, “Letter in Lieu of Case Brief,” dated June 14, 2023; SeAH VINA's Letter, “Letter in Lieu of Second Case Brief of SeAH VINA,” dated June 14, 2023 (SeAH VINA's Comments); and Domestic Interested Parties' Letter, “Rebuttal Comments to Second Case Brief of SeAH VINA,” dated June 21, 2023. The domestic interested parties are Bull Moose Tube Company, Maruichi American Corporation, Nucor Tubular Products Inc., Wheatland Tube Company, and the United Steel, Paper and Forestry, Rubber, Manufacturing, Energy, Allied Industrial and Service Workers International Union, AFL-CIO, CLC (collectively, Domestic Interested Parties).

⁶ See Memorandum, “Extension of Deadline for Issuing Final Determinations in Circumvention Inquiries,” dated May 15, 2023.

Scope of the Orders

The products covered by these Orders are pipe and tube from Taiwan and CWP from Taiwan. For a complete description of the scope of the Orders, see the appendices to this notice.

Merchandise Subject to the Circumvention Inquiries

These circumvention inquiries cover pipe and tube and CWP completed in Vietnam using Taiwan-origin HRS and subsequently exported from Vietnam to the United States.

Analysis of Comments Received

Commerce received no comments objecting to our findings in the Preliminary Determinations with regard to its analysis under the circumvention factors of section 781(b) of the Act. Accordingly, Commerce made no changes to its Preliminary Determinations and no decision memorandum accompanies this Federal Register notice. For a complete description of our analysis, see the Preliminary Determinations.

However, SeAH VINA commented that we inappropriately initiated these inquiries, despite negative determinations concerning SeAH VINA in earlier, separate proceedings.⁷ Because we are making negative findings of circumvention, and we are not establishing a certification program as a result of our findings, we find it unnecessary to address SeAH VINA's argument.

⁷ See SeAH VINA's Comments at 2. SeAH VINA submitted similar comments in the initiation phase of these inquiries, which we considered at the time of initiation of these inquiries. We determined at that time that the concerns raised by SeAH VINA did not preclude Commerce from initiating these circumvention inquiries. In light of these final negative circumvention determinations, SeAH VINA's comments are without effect. See also Circular Welded Carbon Quality Steel Pipe from the People's Republic of China; Certain Circular Welded Non-Alloy Steel Pipe from the Republic of Korea; Certain Welded Carbon Steel Standard Pipes and Tubes from India; Certain Circular Welded Carbon Steel Pipes and Tubes from Taiwan; Certain Circular Welded Non-Alloy Steel Pipe from Taiwan; Light-Walled Rectangular Pipe and Tube from the People's Republic of China; Light-Walled Rectangular Pipe and Tube from the Republic of Korea; Light-Walled Welded Rectangular Carbon Steel Tubing from Taiwan: Initiation of Circumvention Inquiries on the Antidumping and Countervailing Duty Orders, 87 FR 47711 (August 4, 2022), and accompanying Initiation Decision Memorandum at 12; and SeAH VINA's Letter, “Comments in Opposition to Initiation of Anticircumvention Inquiries,” dated June 2, 2022.

Final Negative Determinations of No Shipments

As detailed in the Preliminary Determinations, Commerce determines that SeAH VINA and Vietnam Haiphong did not complete pipe and tube and CWP using Taiwanese HRS in Vietnam, nor did they export pipe and tube or CWP incorporating Taiwan HRS to the United States during the period of inquiry. Accordingly, Commerce is making negative findings of circumvention of the Orders on a country-wide basis.

Suspension of Liquidation

Pursuant to 19 CFR 351.226(l)(4), Commerce will order U.S. Customs and Border Protection to terminate the suspension of liquidation and refund cash deposits for any imports of inquiry merchandise that are suspended under the case number applicable to these proceedings (i.e., A-583-008 and A-583-814).

Administrative Protective Order

This notice will serve as the only reminder to all parties subject to an administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is issued and published in accordance with section 781(b) of the Act and 19 CFR 351.226(g)(2).

Dated: August 3, 2023.
Abdelali Elouaradia,
Deputy Assistant Secretary for Enforcement and Compliance.

Appendix I

Scope of the Antidumping Duty Order on Certain Circular Welded Carbon Steel Pipes and Tubes From Taiwan (A-583-008)

The merchandise subject to the order is certain circular welded carbon steel pipes and tubes from Taiwan, which are defined as: welded carbon steel pipes and tubes, of circular cross section, with walls not thinner than 0.065 inch, and 0.375 inch or more but not over 4.5 inches in outside diameter, currently classified under Harmonized Tariff Schedule of the United States (HTSUS) item numbers 7306.30.5025, 7306.30.5032, 7306.30.5040, and 7306.30.5055. Although the HTSUS subheadings are provided for convenience and customs purposes, the written description of the merchandise under the order is dispositive.

Appendix II

Scope of the Antidumping Duty Order on Circular Welded Non-Alloy Steel Pipe From Taiwan (A-583-814)

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light-loadbearing applications, such as for fence-tubing and as structural pipe tubing used for framing and support members for construction, or load-bearing purposes in the construction, shipbuilding, trucking, farm-equipment, and related industries. Unfinished conduit pipe is also included in this order.

All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Imports of the products covered by this order are currently classifiable under the following Harmonized Tariff Schedule (HTS) subheadings, 7306.30.10.00, 7306.30.50.25, 7306.30.50.32, 7306.30.50.40, 7306.30.50.55, 7306.30.50.85, 7306.30.50.90. Although the HTS subheadings are provided for convenience and customs purposes, our written description of the scope of this order is dispositive.

[FR Doc. 2023-17088 Filed 8-8-23; 8:45 am]

BILLING CODE 3510-DS-P